DEPARTMENT OF HOMELAND SECURITY

Coast Guard

33 CFR Part 165

[Docket No. USCG-2017-0506]

Safety Zones; Recurring Annual Events Held in Coast Guard Sector Boston Captain of the Port Zone

AGENCY: Coast Guard, DHS.

ACTION: Notice of enforcement of regulation.

SUMMARY: The Coast Guard will enforce eleven safety zones within the Captain of the Port Boston zone on the specified dates and times. This action is necessary to ensure the safety of vessels, spectators and participants from hazards associated with fireworks displays and swim events. During the enforcement period, no person or vessel, except for the safety vessels assisting with the events, may enter the safety zones without permission of the Captain of the Port (COTP) or his designated on-scene representative.

DATES: The regulations in 33 CFR 165.118 and 33 CFR 165.119 will be enforced for the safety zones identified in the SUPPLEMENTARY INFORMATION section below for the dates and times specified.

FOR FURTHER INFORMATION CONTACT: If you have questions about this notice of enforcement, call or email Mark Cutter, Sector Boston Waterways Management Division, U.S. Coast Guard; telephone 617-223-4000, email Mark.E.Cutter@uscg.mil.

SUPPLEMENTARY INFORMATION: The Coast Guard will enforce the safety zones listed in Table 1 from 33 CFR 165.118 and in 33 CFR 165.119(a)(2) and (3) on the specified dates and times specified:

Table 1 From 33 CFR 165.118
Name | Location | Date | Time
6.5 Hull Youth Football Carnival Fireworks | All waters within a 450-foot radius of the fireworks barge located approximately 500 feet of off Nantasket Beach, Hull MA located at position 42°16.6′ N., 070°51.7′ W. (NAD 83) | June 24, 2017 | 10 p.m. to 10:30 p.m.
6.3 Surfside Fireworks | All waters of the Atlantic Ocean near Salisbury Beach, MA, within a 350-yard radius of the fireworks barge located at position 42°50.6′ N., 070°48.4′ W. (NAD 83) | Every Saturday between June 24 to September 9 | 9:30 p.m. to 10:30 p.m.
7.1 City of Lynn 4th of July Celebration Fireworks | All waters of Nahant Bay, within a 350-yard radius of the fireworks barge located at position 42°27.62′ N., 070°55.58′ W. (NAD 83) | July 3, 2017 | 7 p.m.-10 p.m.
7.4 Weymouth 4th of July Celebration Fireworks | All waters of Weymouth Fore River, within a 350-yard radius of the fireworks launch site located at position 42°15.5′ N., 070°56.1′ W. (NAD 83) | July 3, 2017 | 8:30 p.m. to 11:30 p.m.
7.5 Beverly 4th of July Celebration Fireworks | All waters of Beverly Harbor within a 350-yard radius of the fireworks launch barge located at position 42°32.62′ N., 070°52.15′ W. (NAD 83) | July 4, 2017 | 9 p.m. to 11 p.m.
7.9 Marblehead 4th of July Fireworks | All waters of Marblehead Harbor within a 350-yard radius of the fireworks launch site located at position 42°30.34′ N., 070°50.13′ W. (NAD 83) | July 4, 2017 | 9:30-10:30 p.m.
7.10 Plymouth 4th of July Fireworks | All waters of Plymouth Harbor within a 350-yard radius of the fireworks launch site located at position 42°57.3′ N., 070°38.3′ W. (NAD 83) | July 4, 2017 | 9:30 p.m. to 10 p.m.
7.8 City of Salem Fireworks | All waters of Salem Harbor, within a 350-yard radius of the fireworks launch site located on Derby Wharf at position 42°31.15′ N., 070°53.13′ W. (NAD 83) | July 4, 2017 | 9 p.m. to 10 p.m.
7.19 Swim Across America Boston | All waters of Boston Harbor between Rowes Warf and Little Brewster Island within the following points (NAD 83): 42°21.4′ N., 071°03.0′ W. 42°21.5′ N., 071°02.9′ W. 42°19.8′ N., 070°53.6′ W. 42°19.6′ N., 070°53.4′ W. | July 7, 2017 | 6 a.m. to 4 p.m.
33 CFR 165.119
Fan Pier Safety Zone | All U.S. navigable waters of Boston Inner Harbor within a 700-foot radius of the fireworks barge in the approximate position 42°21′23.2″ N., 071°02′26″ W. (NAD 1983), located off of the Fan Pier, South Boston, MA | June 12, 2017 | 10 p.m. to 10:30 p.m.
33 CFR 165.119(a)(2)
Long Wharf Safety Zone | All U.S. navigable waters of Boston Inner Harbor within a 700-foot radius of the fireworks barge in approximate position 42°21′41.2″ N., 071°02′36.5″ W. (NAD 1983), located off of Long Wharf, Boston MA | July 1, 2017 | 9 p.m. to 10 p.m.

This notice of enforcement is issued under authority of 33 CFR 165.118, 33 CFR 165.119, and 5 U.S.C. 552(a). In addition to this notice of enforcement in the Federal Register, the Coast Guard plans to provide mariners with advanced notification of this enforcement period via the Local Notice to Mariners.

Dated: June 9, 2017.
C.C. Gelzer,
Captain, U.S. Coast Guard, Captain of the Port Boston.

[FR Doc. 2017-12581 Filed 6-16-17; 8:45 am]

BILLING CODE 9110-04-P